DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee. The Review Committee will meet on November 16-17, 2005, in the Cochiti/Taos Room, Albuquerque Convention Center, 401 Second Street NW, Albuquerque, NM 87102, telephone (505) 768-4575. Meeting sessions will begin at approximately 8:30 a.m. and end at approximately 5:00 p.m each day. The agenda for the meeting includes an update on the status of national implementation of the Act; consultation on regulations regarding the disposition of unclaimed Native American cultural items excavated or discovered on Federal or tribal lands after November 16, 1990; consideration of requests for recommendations regarding the disposition of culturally unidentifiable human remains; discussion of the Review Committee's recommendations to Congress for 2005; discussion of the Review Committee's procedures for meetings, findings, and disputes; and presentations and statements by Indian tribes, Native Hawaiian organizations, museums, Federal agencies, and the public.

A block of lodging rooms has been set-aside at a reduced rate at the Double Tree Hotel, which is adjacent to the Convention Center. Reservations for rooms in this block may be made by calling (505) 247-3344 and referencing the National NAGPRA Program. Reservations must be made by October 31, 2005, to guarantee the reduced rate available for persons attending this meeting.

To schedule a presentation to the Review Committee during the meeting, submit a written request with an abstract of the presentation and contact information. Persons also may submit written statements for consideration by the Review Committee during the meeting. Send requests and statements to the Designated Federal Officer, NAGPRA Review Committee by U.S. Mail to the National Park Service, 1849 C Street NW (2253), Washington, DC 20240; or by commercial delivery to the National Park Service, 1201 Eye Street NW, 8th floor, Washington, DC 20005. Because increased security in the Washington, DC, area may delay delivery of U.S. Mail to Government offices, copies of mailed requests and statements should also be faxed to (202) 371-5197.

Transcripts of Review Committee meetings are available approximately 8 weeks after each meeting at the National NAGPRA Program office, 1201 Eye Street NW, Washington, DC. To request electronic copies of meeting transcripts, send an e-mail message to Tim_McKeown@nps.gov. Information about NAGPRA, the Review Committee, and Review Committee meetings is available at the National NAGPRA website, http://www.cr.nps.gov/nagpra; for the Review Committee's meeting procedures, select “Review Committee,” then select “Procedures.”

The Review Committee was established by the Native American Graves Protection and Repatriation Act of 1990 (NAGPRA), 25 U.S.C. 3001 et seq. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum and recommending specific actions for developing a process for disposition of such remains; consulting with Indian tribes and Native Hawaiian organizations and museums on matters within the scope of the work of the committee affecting such tribes or organizations; consulting with the Secretary of the Interior in the development of regulations to carry out NAGPRA; and making recommendations regarding future care of repatriated cultural items. The Review Committee's work is completed during meetings that are open to the public.

Dated: September 23, 2005
C. Timothy McKeown,
Designated Federal Officer,Native American Graves Protection and Repatriation Review Committee.

[FR Doc. 05-20200 Filed 10-6-05; 8:45 am]

BILLING CODE 4312-50-S